DENALI COMMISSION

Withdrawal of Denali Commission Fiscal Year 2026 Draft Work Plan

AGENCY: Denali Commission.

ACTION: Notice; withdrawal.

SUMMARY: On May 7, 2025, the Denali Commission published a Federal Register notice to allow public comment on the Denali Commission Fiscal Year 2026 Draft Work Plan. The notice is hereby withdrawn.

DATES: The document published at 90 FR 19284 on May 7, 2025, is withdrawn as of May 15, 2025.

FOR FURTHER INFORMATION CONTACT: Elinda Hetemi, Denali Commission, 550 W 7th Avenue, Suite 1230, Anchorage, AK 99501. Telephone: 907-271-3415. Email: ehetemi@denali.gov.

Authority: Pub. L. 105-277, sec. 304(b)(1).

John Whittington,
General Counsel.

[FR Doc. 2025-09365 Filed 5-23-25; 8:45 am]

BILLING CODE 3300-01-P